DEPARTMENT OF COMMERCE

National Oceanic and Atmospheric Administration

RIN 0648-XF105

Endangered and Threatened Species; Take of Anadromous Fish

AGENCY: National Marine Fisheries Service (NMFS), National Oceanic and Atmospheric Administration (NOAA), Commerce.

ACTION: Issuance of one enhancement of survival permit.

SUMMARY: Notice is hereby given that NMFS has issued Permit 21008 to Forrest Blair Hart, Susan S. Hart; Forrest Blair Hart, Susan S. Hart as Co-Trustees of The Hart Family 2003 Trust; Hart Cattle, LLC; Hart Cattle Inc; Rabbit Hill, LLC; and Soda Springs, LLC.

ADDRESSES: The application, issued permit, and supporting documents are available upon written request or by appointment: California Coastal Office, NMFS WCR, 1655 Heindon Road, Arcata, CA 95521, ph: 707-825-5171, fax: 707-825-4840.

FOR FURTHER INFORMATION CONTACT: Jim Simondet, Arcata, CA (ph.: 707-825-5171, email: jim.simondet@noaa.gov).

SUPPLEMENTARY INFORMATION: The issuance of permits and permit modifications, as required by the Endangered Species Act of 1973 (16 U.S.C. 1531-1543) (ESA), is based on a finding that such permits/modifications: (1) Are applied for in good faith; (2) would not operate to the disadvantage of the ESA-listed species which are the subject of the permits; and (3) are consistent with the purposes and policies set forth in section 2 of the ESA. Authority to take listed species is subject to conditions set forth in the permits. Permits and modifications are issued in accordance with and are subject to the ESA and NMFS regulations (50 CFR parts 222-226) governing listed fish and wildlife permits.

Species Covered in This Notice

The following listed species is covered in this notice:

Threatened Southern Oregon/Northern California Coast (SONCC) coho salmon (Oncorhynchus kisutch; Covered Species).

Permits Issued

Permit 21008

A notice of receipt of an application for an enhancement of survival permit (21008) was published in the Federal Register on May 17, 2017 (82 FR 22650). Permit 21008 was issued to the Permit Holders, Forest Blair Hart and Susan S. Hart and additional business entities (listed above), on February 21, 2018, and expires on February 22, 2028.

Permit 21008 facilitates the implementation of the “Safe Harbor Agreement For Voluntary Habitat Enhancement Activities Benefitting Southern Oregon and Northern California Coast Coho Salmon (Oncorhynchus kisutch) on Private Lands in the Shasta Valley, Siskiyou County, California” (Agreement) that is expected to promote the recovery of the covered species within the Little Shasta River on the Agreement's enrolled property, which is commonly known as the Hart Ranch. The Little Shasta River is a tributary to the Shasta River, which is a tributary to the Klamath River, California. The duration of the agreement and Permit 21008 is 10 years.

Permit 21008 authorizes the incidental taking of the covered species associated with routine agricultural activities, implementation of restoration/enhancement activities, and the potential future return of the enrolled property to the agreement's Baseline and Elevated Baseline Conditions. Under the Agreement, the permit holder specifies the restoration and/or enhancement, and management activities to be carried out on the enrolled property and a timetable for implementing those activities. NMFS reviewed the agreement and determined that the agreement will result in a net conservation benefit for the covered species and meets all required standards of NMFS' Safe Harbor Policy (64 FR 32717). The agreement adopts Baseline and Elevated Baseline Conditions (Section 3 of the agreement) and includes restoration/enhancement activities that will be completed by the permit holder to achieve the Elevated Baseline Condition. The agreement also contains a monitoring component that requires the permit holder to ensure compliance with the terms and conditions of the agreement, and to ensure the Baseline and Elevated Baseline levels of habitat for the covered species occur on the enrolled property. Results of the monitoring efforts will be provided to NMFS by the permit holder in annual reports for the duration of the 10-year permit term.

Near the end of the permit term and agreement, Permit 21008 authorizes the permit holder incidental take associated with a return to Baseline and Elevated Baseline Conditions if desired and in compliance with the terms and conditions of the Permit.

Dated: September 28, 2018.
Angela Somma,
Chief, Endangered Species Division, Office of Protected Resources, National Marine Fisheries Service.

[FR Doc. 2018-21542 Filed 10-2-18; 8:45 am]

BILLING CODE 3510-22-P